DEPARTMENT OF COMMERCE

Census Bureau

Bureau of the Census Scientific Advisory Committee

AGENCY: Census Bureau, U.S. Department of Commerce.

ACTION: Renewal of the Bureau of the Census Scientific Advisory Committee.

SUMMARY: The Census Bureau is publishing this notice to announce the renewal of the Bureau of the Census Scientific Advisory Committee (CSAC or Committee). The purpose of the Committee is to provide advice to the Director of the Census Bureau on the full range of Census Bureau programs and activities including communications, decennial, demographic, economic, field operations, geography, information technology, and statistics. Additional information concerning the Committee can be found by visiting the Committee's website at: https://www.census.gov/about/cac/sac.html.

FOR FURTHER INFORMATION CONTACT: Shana J. Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION:

Background

In accordance with the Federal Advisory Committee Act (FACA), the Secretary of the Department of Commerce (Secretary) renews the CSAC. The Secretary has determined that the work of the Committee is in the public interest and relevant to the duties of the Census Bureau. The CSAC will operate under the provisions of FACA and will report to the Director of the Census Bureau. The Bureau of the Census Scientific Advisory Committee will advise the Director of the Census Bureau on the full range of Census Bureau programs and activities.

Objectives and Duties

1. The Committee will provide advice and recommendations addressing census policies, research and methodology, tests, operations, communications/messaging, and other activities to ascertain needs and best practices to improve censuses, surveys, operations, and programs.

2. The Committee will provide advice and recommendations on internal and external working papers, reports, and other documents related to the design and implementation of census programs and surveys.

3. The Committee will provide scientific and technical expertise from the following disciplines: demographics, economics, geography, psychology, statistics, survey methodology, social and behavioral sciences, information technology, computer science and engineering, marketing and other fields of expertise, as appropriate, to address Census Bureau program needs and objectives.

4. The Committee functions solely as an advisory body under the FACA.

Membership

1. The Committee consists of up to 21 members who serve at the discretion of the Director.

2. The Committee aims to have a balanced representation among its members, considering such factors as scientific expertise, geography, community involvement, and knowledge of census programs and/or activities.

3. The Committee aims to have a balanced representation among its members, considering such factors as geography, scientific expertise, community involvement, and knowledge of census programs and/or activities, and, where possible the Census Bureau will also consider the ethnic, racial, and gender diversity and various abilities of the United States population. Individuals will be selected based on their expertise in specific areas as needed by the Census Bureau.

4. Members will serve as Special Government Employees (SGEs) as defined in title 18 of the U.S. Code, section 202. SGEs are appointed for their individual expertise and experience and are subject to conflict of interest laws and regulations, including (but not limited to) the obligation to annually file a New Entrant Confidential Financial Disclosure Report (OGE Form 450) and complete ethics training. Members will be individually advised of the capacity in which they will serve through their appointment letters.

5. SGEs will be selected from academia, public and private enterprise, and nonprofit organizations, which are further diversified by business type or industry, geography, and other factors.

6. Membership is open to persons who are not seated on other Census Bureau stakeholder entities (i.e., State Data Centers, Census Information Centers, Federal State Cooperative on Populations Estimates Program, other Census advisory committees, etc.). People who have already served one full-term on a Census Bureau advisory committee may not serve on any other Census Bureau advisory committee for three years from the termination of previous service. No full-time or permanent part-time officer or employee of the Federal Government can serve as a member of the Committee.

7. Members will serve an initial three-year term. All members will be evaluated at the conclusion of their initial term with the prospect of renewal, pending Committee needs. Active attendance and participation in meetings and activities (e.g., conference calls and assignments) will be factors considered when determining term renewal or membership continuance. Members may be appointed for a second, three-year term at the discretion of the Director.

8. Members will be selected on a standardized basis, in accordance with applicable Department of Commerce guidance.

Miscellaneous

1. Members of the Committee serve without compensation but may receive reimbursement for Committee-related travel and lodging expenses.

2. The Census Bureau will convene approximately two CSAC meetings per year, budget and environmental conditions permitting, but additional meetings may be held as deemed necessary by the Census Bureau Director or Designated Federal Officer. Committee meetings are open to the public in accordance with FACA.

3. Members must be able to actively participate in the tasks of the Committee, including, but not limited to, regular meeting attendance, Committee meeting discussant responsibilities, review of materials, as well as participation in conference calls, webinars, working groups, and/or special committee activities.

Robert L. Santos, Director, Census Bureau, approved the publication of this notice in the Federal Register.

Dated: April 2, 2024.
Shannon Wink,
Program Analyst, Policy Coordination Office, U.S. Census Bureau.

[FR Doc. 2024-07383 Filed 4-5-24; 8:45 am]

BILLING CODE 3510-07-P